DEPARTMENT OF STATE

[Public Notice 10647]

Notice of Receipt of Request From the Government of the Hashemite Kingdom of Jordan Under Article 9 of the 1970 UNESCO Convention on the Means of Prohibiting and Preventing the Illicit Import, Export and Transfer of Ownership of Cultural Property

SUMMARY: Notice of receipt of request from Jordan for cultural property protection.

FOR FURTHER INFORMATION CONTACT: Andrew Cohen, Cultural Heritage Center, Bureau of Educational and Cultural Affairs: 202-632-6301; culprop@state.gov, include “Jordan” in the subject line.

SUPPLEMENTARY INFORMATION: The Government of Jordan has made a request to the Government of the United States under Article 9 of the 1970 UNESCO Convention on the Means of Prohibiting and Preventing the Illicit Import, Export and Transfer of Ownership of Cultural Property. The United States Department of State received this request on November 26, 2018. Jordan's request seeks U.S. import restrictions on archaeological material representing Jordan's cultural patrimony. Pursuant to the authority vested in the Assistant Secretary of State for Educational and Cultural Affairs, and pursuant to 19 U.S.C. 2602(f)(1), notification of the request is hereby published. A public summary of Jordan's request and information about U.S. implementation of the 1970 UNESCO Convention will be available at the Cultural Heritage Center website: https://eca.state.gov/cultural-heritage-center.

Marie Therese Porter Royce,
Assistant Secretary, Bureau of Educational and Cultural Affairs, Department of State.

[FR Doc. 2019-00517 Filed 1-30-19; 8:45 am]

BILLING CODE 4710-05-P